DEPARTMENT OF AGRICULTURE

Forest Service

Red Rock Ranger District, Coconino National Forest, AZ, Outfitter and Guide Management Plan

AGENCY: Forest Service, USDA.

ACTION: Notice of intent to prepare an environmental impact statement.

SUMMARY: The Coconino National Forest is proposing to develop an Outfitter-Guide Management Plan for the Red Rock Ranger District that will serve the public need for outfitting and guide activities in ways that protect the area's natural and cultural resources as well as the more primitive social settings desired for the National Forest by most visitors. The area being considered is limited to the Red Rock Ranger District and the scope of the analysis is limited to primarily outfitter and guide operations on the ranger district. A few general recreation management proposals are being considered when they are connected with outfitter and guide activities. Some changes to guidelines and objectives in the Coconino National Forest Land and Resource Management Plan direction are also being considered.

DATES: Comments concerning the scope of the analysis must be received within 30 days of the publication of this Notice of Intent in the Federal Register. The draft environmental impact statement is expected May 2006 and the final environmental impact statement is expected December 2006.

ADDRESSES: Send written comments to: Outfitter-Guide Team Leader, Red Rock Ranger District, PO Box 20249, Sedona, AZ 86341.

For further information, mail correspondence to: Outfitter-Guide Team Leader, Red Rock Ranger District, PO Box 20249, Sedona, AZ 86341.

More detailed information on this project is also posted on the Coconino National Forest Web site at: http://www.fs.fed.us/r3/coconino link is under NEPA/EFOIA

FOR FURTHER INFORMATION CONTACT: William Stafford, Recreation Staff, Red Rock Ranger District, Coconino National Forest, USDA Forest Service, telephone (928) 203-7529, see address above.

SUPPLEMENTARY INFORMATION:

Purpose and Need for Action

The Purpose and Need for this project relates to the unique character of the Red Rock Ranger District's landscape, particularly around the Sedona, Arizona community. It is attracting increasing numbers of people; including many visitors who look to outfitter-guides to assist them have a safe, enjoyable, and learning experience on the National Forest. Additionally an ever increasing number of people living and working nearby in adjacent communities are also using the same National Forest areas. Consequently, the National Forest's natural and cultural resources are getting unprecedented pressure (and impact), sometimes eliminating, or at least diminishing solitude, natural quiet, and the natural appearing landscapes.

The red rock landscape around Sedona is currently the focus of the commercial outfitter-guide services. The Forest Service has issued permits to these outfitter-guides because they offer opportunities that visitors might not otherwise have. Outfitter-guides provide knowledge, skills, and equipment that enhance a visitor's experience or are required for safe participation in an activity. For the Forest Service, outfitter-guides can assist in the protection of the natural and heritage resources (such as “Leave no trace”, etiquette, and interpretation/education) and management of infrastructure.

During the last 10 years in particular, competition between permit-holders and potential permit-holders has become evident and continues to grow in intensity. The Coconino National Forest Land and Resource Management Plan for the area around Sedona, where interest for permits is most intense, states that opportunities for additional guided services are very limited. Interest in permits for this area currently exceeds what the Forest Service has been willing to authorize. Compounding this issue is the popularity of the area and visitation each year by literally millions of others involved in a similar set of activities but without the services of an outfitter. In previous analysis and studies for the Forest Plan, Forest users in the Sedona area indicated their preference for small group, non-commercial activities on the National Forest.

As activities from commercial and non-commercial activities have increased over the years, local residents and neighborhoods have been affected. They have developed a high level of interest in outfitter-guide activities since many of the desirable tour areas on national forest lands are within the Sedona-area urban interface. Tour and general public use often occurs near private lands and residential subdivisions and sometimes adversely impacts these neighborhood areas. Additionally, impacts due to high use from both groups of users and inadequate maintenance are evident across the landscape. Physical impacts include loss of vegetation due to trampling and soil compaction, un-planned roads and trails, and rutting affecting water quality and soil erosion. Social impacts include reduced quality of experience, noise, and dust. These impacts are contrary to the direction in the current Forest Plan for the areas around Sedona.

Areas of the Red Rock Ranger District outside the immediate vicinity of Sedona have little outfitter-guide use and offer locations and activities that could provide services the public and assist in management and protection of the National Forest.

The focus of this analysis will be to develop an outfitter-guide management plan for the Red Rock Ranger District that will serve the public need for outfitting and guide activities in ways that protect the area's natural and cultural resources as well as the more primitive social settings desired for the National Forest by most visitors.

Proposed Action

• The Red Rock Ranger District has been divided into 39 Recreation use units (RUU's) that reflect vegetation, topography, social settings.

• Opportunities for types of outfitter-guide operations have been identified for each RUU as well as the need for services in each unit. These opportunities would be offered through a competitive process in the future if the proposed action is selected. Most of the RUU's within 1 mile of the Sedona area will not have new motorized opportunities offered.

• New opportunities near Sedona include: public transit, mountain biking, weddings, coach/bus tours, metaphysical tours and hiking.

• New opportunities in the remainder of the Red Rock Ranger District include: tours of selected heritage sites, mountain bike tours, scenic touring (i.e., jeeps), ATV tours, rock climbing, 4-wheel drive trips, hummer tours, equestrian/trail rides, hiking, hot air balloons, backpacking, livestock packing, hunting, geo-caching, fishing, river rafting, winter sports and metaphysical tours.

• All outfitter-guide operations will be subject to area-wide and site specific mitigation measures to protect natural, historic and infrastructure resources of the National Forest as well as balance use with the general public and experiential objectives.

• Establish local procedures for administration of outfitter-guide permits as defined in national policy, including priority use commensurate with actual use, adjustments of permitted use based on actual use.

• Establish Limits of Acceptable Change (LAC) for outfitter operations, including a monitoring plan.

• Optimize the availability of Broken Arrow for popular outfitter-guide activities and help mitigate impacts to adjacent residents and to the National Forest by:

1. Installation of a night gate with motorized traffic hours of daylight to dark.

2. Requiring private motorized vehicle users to have a “non-fee” permit.

3. Setting an annual cap on the historic Pink Jeep Tours permit.

4. Authorizing additional (new) outfitter-guide services at no more than 2 vehicles per day using an annual lottery to select the permit-holder.

• Optimize the availability of Soldier Pass for popular outfitter-guide activities and help mitigate impacts to adjacent residents and to the National Forest by:

1. Requiring private motorized vehicle users to have a “non-fee” permit.

2. Reducing the at-one-time 4x4 vehicle limit for outfitter-guides from 10 to 3 vehicles.

3. Increasing the annual cap for outfitter-guide vehicles.

4. Authorizing additional (new) outfitter-guide services at no more than 1 vehicle per day using an annual lottery to select the permit-holder.

• Optimize the availability of Greasy Spoon and the “pipeline” for popular outfitter-guide activities:

1. Use an annual lottery to offer and authorize additional outfitter-guide services at no more than 2 vehicles per day.

• Address public's interest and need for outfitter-guides and address competitive interest in providing outfitter-guide services:

1. Issue Prospectus to offer new outfitter-guide opportunities throughout the ranger district.

2. Issue Temporary Permits for the first 5 years to the successful applicants. Make priority use permits with a 5-year Term available after 5 years if the LAC monitoring supports continuation of the outfitter-guide service.

3. Make Permits, with standard/pre-defined Terms and Conditions, available to wedding planners on demand (across the counter) as long as LAC monitoring supports. Adjust Terms and Conditions and availability of Permits commensurate with LAC monitoring.

4. Designate group (60 or less participants) recreation event sites and make permits with preset Terms and Conditions available on-demand (across the counter) on a first-come, first serve basis. (Designated sites are also appropriate for non-commercial group activities, i.e. 75 or more people for personal wedding activities or reunions.)

5. Annually accept Proposals for institutional outfitter-guide activities. Make 1-Year Temporary Permits available with preset and other (based on Proposal and LAC monitoring) Terms and Conditions if LAC monitoring supports.

• Mitigate impacts to natural and cultural resources on the National Forest:

1. Include terms and conditions in all outfitter-guide permits that relate to vehicle use of roads, noise mitigation, permit identification, wet weather procedures, Leave No Trace principles, Forest closures and restrictions, First Aid and CPR, land stewardship tasks, regulation violation notification, wildlife mitigation, weed control and riparian protection.

2. Include terms and conditions a part of all outfitter-guide permits for Wilderness areas that all Wilderness activities must be wilderness dependent, limit group size provide Leave No Trace messages and preserve Wilderness values.

• Address the issue of business growth:

1. Manage unallocated opportunities as a “reserve” for “temporary” use and business growth potential. Accept Proposals for temporary use authorization for business growth regularly under specified conditions.

Responsible Official

District Ranger, Red Rock Ranger District is the responsible official related to decision on issuance of permits and outfitter-guide uses of National Forest. There is potential for some minor decisions that will result in changes to the Coconino National Forest Land and Resource Management Plan. Nora Rasure, Coconino National Forest Supervisor, is the responsible official for any decision related to amendments to the Coconino National Forest Land and Resource Plan.

Nature of Decision To Be Made

This decision is intended to determine the locations, limitations, management and terms of outfitter-guide permits and opportunities on the Red Rock Ranger District for the next 5-10 years. There are some decisions that may result in changes to general public recreation use as they relate to outfitter-guide activities and locations. A few decisions may result in changes to recreation use guidance and objectives in the Coconino National Forest Land and Resource Plan such as recreation opportunity spectrum.

Scoping Process

Public participation will be especially important at several points during the analysis. The Forest Service will be seeking information, comments and assistance from the Federal, State, and local agencies and other individuals or organizations that may be interested in or affected by the proposed action. Public comment will be accepted 30 days following the printing of this Notice in the Federal Register. The Red Rock Ranger District is sending out letters with an executive summary of the proposed action to a mailing list of parties who have expressed interest in these activities asking for comments on the proposals. In addition, news releases announcing the proposal and public open house meeting were sent to media resources in northern Arizona. The Open House Public Meeting is scheduled for February 9, 2006, 4 p.m.-7 p.m. at the Elks Lodge, 110 Airport Road in Sedona, Arizona. Information related to the proposed action and interdisciplinary specialists will be present to answer questions about the proposal and the public will be able to provide comments at this meeting. Comments may also be submitted as described above before or after the meeting. The Draft EIS is expected to be published in May 2006 and a Notice of Availability will be published in the Federal Register at the time it is available for public review and comment. The final EIS and decision is expected in December 2006. Public questions and comments regarding this proposal are an integral part of the environmental analysis process. Comments will be used to identify issues and develop alternatives to this proposal. To assist the Forest Service in identifying and considering issues and concerns on the proposed action, comments should be as specific as possible.

Preliminary Issues

A. Long standing outfitter guide operators have not received 5-year term or priority use permits.

B. Levels of authorized outfitter-guide use (too much commercial use for some and not enough opportunities for others) and limits on the number of permits in the popular and highly marketable tourist locations: such as, Broken Arrow, Soldier Pass, Greasy Spoon, Honanki, etc.

C. The Forest Service has not authorized increased opportunities for existing outfitter-guides with temporary permits.

D. Sustaining of historic permits, versus adjusting/limiting authorizations and opening up new competitive opportunities.

E. The Forest Service has not issued new outfitter-guide authorizations in the greater Sedona area.

F. Inconsistencies and deficiencies in outfitter-guide quality of service and performance.

G. Demand for group and large community events on the National Forest is inconsistent with current emphasis in the Forest Plan.

H. Lack of permit system for commercial wedding planning and operations on the National Forest.

I. Authorization and management of recreation events, such as size, location, type of event, limitations.

J. Authorization and management of institutional outfitter-guide activities.

K. Inconsistencies between desire of permit holders for unlimited business growth and current Forest Plan direction for encounter frequencies and limited commercial activities.

L. Perceived monopoly of business income related to certain locations.

M. Concern related to resource and infrastructure impacts and damage from outfitter-guide activities and general recreation use.

N. Implementation of new regulations.

O. Some existing outfitter guides allocations are not used and that non-use has not been available for others or administered under current policy.

P. Concerns about delay in completing reallocation of existing permitted guides.

Q. Displacement of general public use of area as a result of outfitter guide use, (common wedding or large group use locations.)

Comment Requested

This notice of intent initiates the scoping process which guides the development of the environmental impact statement. Comments should be as specific as possible including location of concern area, why the concern is important, and data supporting any information considered not accurate. Comments should also indicate interest in being included on a mailing list for the project with accurate mailing address and contact information.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: January 20, 2006.
Nora B. Rasure,
Forest Supervisor, Coconino Naitonal Forest.

[FR Doc. 06-737 Filed 1-25-06; 8:45 am]

BILLING CODE 3410-11-P